SECURITIES AND EXCHANGE COMMISSION

[Release No. 34-98691; File No. SR-EMERALD-2023-19]

Self-Regulatory Organizations; MIAX Emerald, LLC; Notice of Withdrawal of Proposed Rule Change To Amend the Fee Schedule To Modify Certain Connectivity Fees and Ports Fees

October 5, 2023.

On August 8, 2023, MIAX Emerald, LLC (“MIAX Emerald” or “Exchange”) filed with the Securities and Exchange Commission (“Commission”), pursuant to section 19(b)(1) of the Securities Exchange Act of 1934 (“Act”),¹ and Rule 19b-4 thereunder,² a proposed rule change to amend certain connectivity and port fees.

¹ 15 U.S.C. 78s(b)(1).

² 17 CFR 240.19b-4.

The proposed rule change was immediately effective upon filing with the Commission pursuant to section 19(b)(3)(A) of the Act.³ The proposed rule change was published for comment in the Federal Register on August 25, 2023.⁴ On September 29, 2023, pursuant to section 19(b)(3)(C) of the Act,⁵ the Commission: (1) temporarily suspended the proposed rule change; and (2) instituted proceedings under Section 19(b)(2)(B) of the Act ⁶ to determine whether to approve or disapprove the proposed rule change.⁷ On October 2, 2023, the Exchange withdrew the proposed rule change (SR-EMERALD-2023-19).

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release No. 98176 (August 21, 2023), 88 FR 58342.

⁵ 15 U.S.C. 78s(b)(3)(C).

⁶ 15 U.S.C. 78s(b)(2)(B).

⁷ See Securities Exchange Act Release No. 98656, 88 FR 68680 (October 4, 2023).

⁸ 17 CFR 200.30-3(a)(12).

For the Commission, by the Division of Trading and Markets, pursuant to delegated authority.⁸
Sherry R. Haywood,
Assistant Secretary.

[FR Doc. 2023-22505 Filed 10-12-23; 8:45 am]

BILLING CODE 8011-01-P